DEPARTMENT OF LABOR

Employment and Training Administration

[TA-W-41,427]

Wehadkee Yarn Mills, Talladega, Alabama; Notice of Termination of Investigation

Pursuant to section 221 of the Trade Act of 1974, an investigation was initiated on April 22, 2002, in response to a petition which was filed by the company official at Wehadkee Yarn Mills, Talladega, Alabama.

The petitioner has formally withdrawn the petition and consequentially, further investigation in this case would serve no purpose, and the investigation has been terminated.

Signed in Washington, DC, this 17th day of May, 2002.
Linda G. Poole,
Certifying Officer, Division of Trade Adjustment Assistance.

[FR Doc. 02-13946 Filed 6-3-02; 8:45 am]

BILLING CODE 4510-30-P